DEPARTMENT OF LABOR

Employment and Training Administration

[TA-W-59,639]

Solectron Corporation Currently Known as Flextronics America, LLC Design and Engineering Charlotte, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on September 5, 2006, applicable to workers of Solectron Corporation, Design and Engineering, Charlotte, North Carolina. The notice was published in the Federal Register on September 21, 2006 (71 FR 55218).

At the request of the petitioners, the Department reviewed the certification for workers of the subject firm. The workers are engaged in the production of test equipment used in the development of printed circuit boards and electronic storage.

New information shows that Flextronics America, LLC purchased Solectron Corporation in October 2007 and is currently known as Flextronics America, LLC.

Accordingly, the Department is amending this certification to show that Solectron Corporation is currently known as Flextronics America, LLC.

The intent of the Department's certification is to include all workers of Solectron Corporation, Design and Engineering, currently known as Flextronics America, LLC who were adversely affected by a shift in production of test equipment to Mexico and China.

The amended notice applicable to TA-W-59,639 is hereby issued as follows:

All workers of Solectron Corporation, currently known as Flextronics America, LLC, Design and Engineering, Charlotte, North Carolina, who became totally or partially separated from employment on or after June 7, 2005, through September 5, 2008, are eligible to apply for adjustment assistance under Section 223 of the Trade Act of 1974, and are also eligible to apply for alternative trade adjustment assistance under Section 246 of the Trade Act of 1974.

Signed at Washington, DC this 3rd day of April 2008.
Elliott S. Kushner,
Certifying Officer, Division of Trade Adjustment Assistance.

[FR Doc. E8-7733 Filed 4-10-08; 8:45 am]

BILLING CODE 4510-FN-P